SMALL BUSINESS ADMINISTRATION

13 CFR Part 121

RIN 3245-AG22

Small Business Subcontracting; Correction

AGENCY: U.S. Small Business Administration.

ACTION: Correcting amendment.

SUMMARY: The U.S. Small Business Administration (SBA) published a final rule in the Federal Register on July 16, 2013 (78 FR 42391), amending its regulations governing small business subcontracting. That document amended § 121.411 without incorporating the amendments made to that section by a final rule published on June 28, 2013 (78 FR 38811), which unintentionally resulted in duplicate paragraphs. This document corrects the final regulations by properly designating the paragraphs in § 121.411.

DATES: Effective May 23, 2014

FOR FURTHER INFORMATION CONTACT: Dean Koppel, Office of Government Contracting, U.S. Small Business Administration, 409 Third Street SW., 8th Floor, Washington, DC 20416, (202) 205-7322, dean.koppel@sba.gov.

SUPPLEMENTARY INFORMATION: On June 28, 2013, SBA published a final rule to implement provisions in the Small Business Jobs Act of 2010 pertaining to small business size and status integrity. 78 FR 38811. That rule amended 13 CFR 121.411 by adding new paragraphs (d) through (h). On July 16, 2013, at 78 FR 42391, SBA published a second final rule to implement provisions, also in the Small Business Jobs Act of 2010, concerning subcontracting compliance. In pertinent part, this final rule amended 13 CFR 121.411. However, in so doing, SBA inadvertently failed to incorporate the new paragraphs added to § 121.411 by the final rule published on June 28, 2013. When SBA published the rule on July 16, 2013, the Agency should have amended § 121.411 by revising paragraph (a), redesignating paragraphs (b) through (h) as paragraphs (c) through (i), and adding a new paragraph (b). As a result of the Agency's oversight, the current regulations in § 121.411 contain two paragraphs (d). This correcting amendment is necessary to ensure the proper designation of the paragraphs in that section.

List of Subjects in 13 CFR Part 121

Government contracting programs, Small business subcontracting program.

Accordingly, 13 CFR part 121 is corrected by making the following correcting amendments:

PART 121—SMALL BUSINESS SIZE REGULATIONS

1. The authority citation for part 121 continues to read as follows:

Authority: 15 U.S.C. 632, 634(b)(6), 662, and 694a(9).

2. Amend § 121.411 by redesignating the second paragraph (d) through paragraph (h) as paragraphs (e) through (i).

Calvin Jenkins,
Deputy Associate Administrator for Government Contracting and Business Development.

[FR Doc. 2014-11986 Filed 5-22-14; 8:45 am]

BILLING CODE 8025-01-P